GENERAL SERVICES ADMINISTRATION

[Notice-MA-2022-03; Docket No. 2022-0002; Sequence 3]

Temporary Waiver of Certain Provisions of Federal Management Regulation (FMR) Part 102-192 Regarding Mail Management Reporting Requirements

AGENCY: Office of Government-wide Policy, General Services Administration (GSA).

ACTION: Publication of GSA Bulletin FMR G-08.

SUMMARY: GSA has issued FMR Bulletin G-08, which temporarily waives the annual mail management reporting requirements of large Federal agencies as mandated by FMR §§ 102-192.85-102-192.105. This FMR Bulletin G-08 is available at https://www.gsa.gov/policy-regulations/regulations/federal-management-regulation/federal-management-regulation-fmr-related-files#MailManagement.

DATES: Applicability Date: This notice is effective upon signature and retroactively applies to relevant reporting for fiscal years 2017 and continues until further notice.

August 12, 2022.

FOR FURTHER INFORMATION CONTACT: For clarification of content, contact Michael DeMale, Office of Asset and Transportation, GSA, at email federal.mail@gsa.gov or 202-805-8167. Please cite Notice of FMR Bulletin G-08.

SUPPLEMENTARY INFORMATION: Federal agencies must comply with FMR part 102-192, authorized by 44 U.S.C. 2901-2906, when developing and administering Federal agency mail programs. However, in February 2018, in response to two Office of Management and Budget (OMB) Memorandums (M-17-26 Reducing Burden for Federal Agencies by Rescinding and Modifying OMB Memoranda and M-18-23 Shifting From Low-Value to High-Value Work), GSA decided to cease development and deployment of the Simplified Mail Accountability Reporting Tool (SMART).

This FMR Bulletin G-08 rescinds and replaces FMR Bulletin G-07 by extending the temporary waiver of the annual mail management reporting requirement as mandated by FMR §§ 102-192.85-102-192.105.

Krystal J. Brumfield,
Associate Administrator, Office of Government-wide Policy General Services Administration.

[FR Doc. 2022-17404 Filed 8-11-22; 8:45 am]

BILLING CODE P